DEPARTMENT OF HEALTH AND HUMAN SERVICES

National Institutes of Health

Center for Scientific Review; Amended Notice of Meeting

Notice is hereby given of a change in the meeting of the Center for Scientific Review Special Emphasis Panel, January 27, 2026, 10:00 a.m. to January 27, 2026, 05:00 p.m., National Institutes of Health, Rockledge II, 6701 Rockledge Drive, Bethesda, MD 20892 which was published in the Federal Register on December 05, 2025, 90 FR 56166, Doc 2025-22086.

This meeting is being amended to change the meeting start time to 12:00 p.m. The meeting is closed to the public.

Dated: December 18, 2025.
Bruce A. George,
Program Analyst, Office of Federal Advisory Committee Policy.

[FR Doc. 2025-23595 Filed 12-19-25; 8:45 am]

BILLING CODE 4140-01-P